DEPARTMENT OF HOUSING AND URBAN DEVELOPMENT

[Docket No. FR-7076-N-05]

60-Day Notice of Proposed Information Collection: Family Report, MTW Family Report, MTW Expansion Family Report; OMB Control No. 2577-0083

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 10, 2023.

ADDRESSES: Interested persons are invited to submit comments regarding this proposal. To receive consideration of your comments, the comments should refer to the proposal by name and/or OMB Control Number and must be submitted through one of two methods, specified below.

1. Submission of Comments by Mail. Colette Pollard, Reports Management Officer, QDAM, Department of Housing and Urban Development, 451 7th Street SW, Room 4176, Washington, DC 20410-5000. Due to security measures at all Federal agencies, however, submission of comments by mail often results in delayed delivery. To ensure timely receipt of comments, HUD recommends that comments submitted by mail be submitted at least two weeks in advance of the public comment deadline.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

FOR FURTHER INFORMATION CONTACT: Sylvia Whitlock, Office of Policy, Programs and Legislative Initiatives, PIH, Department of Housing and Urban Development, 451 7th Street SW, Room 3178, Washington, DC 20410; telephone 202-402-4580, (this is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION: This notice informs the public that HUD is seeking approval from OMB for the information collection described in Section A.

A. Overview of Information Collection

Title of Information Collection: Family Report, MTW Family Report, MTW Expansion Family Report.

OMB Approval Number: 2577-0083.

Type of Request: Revision of a currently approved collection.

Form Number: Form HUD-50058 Family Report, HUD-50058 MTW Family Report, Form HUD-50058 MTW Expansion Family Report.

Description of the need for the information and proposed use: The Office of Public and Indian Housing of the Department of Housing and Urban Development (HUD) provides funding to public housing agencies (PHAs) to administer assisted housing programs. Form HUD-50058, Form HUD-50058 MTW, and Form HUD-50058 MTW Expansion Family Reports solicit demographic, family profile, income, and housing information on the entire nationwide population of tenants residing in assisted housing. The information collected through the Form HUD-50058 will be used to monitor and evaluate the Public Housing, Section 8 Housing Choice Voucher, Section 8 Project-Based Vouchers, and Section 8 Moderate Rehabilitation programs. The information collected through the Form HUD-50058 MTW will be used to monitor and evaluate current Moving to Work (MTW) PHAs participating in the MTW Demonstration program which includes the Public Housing, Section 8 Housing Choice Voucher, and Section 8 Project-Based Vouchers programs. The information collected through the Form HUD-50058 MTW Expansion will be used to monitor and evaluate the expansion MTW PHAs (PHAs designated as MTW pursuant to the 2016 Expansion Statute, Section 239 of the Fiscal Year 2016 Appropriations Act, Public Law 114-113, that are participating in the MTW Demonstration program, which includes the Public Housing, Section 8 Housing Choice Voucher, Section 8 Project-Based Vouchers, Local, Non-Traditional Property-Based, and Local, Non-Traditional Tenant-Based programs.

Tenant data is collected to understand demographic, family profile, income, and housing information for participants in the Public Housing, Section 8 Housing Choice Voucher, Section 8 Project Based Certificate, Section 8 Moderate Rehabilitation, and MTW Demonstration programs. This data also allows HUD to monitor the performance of programs and the performance of public housing agencies that administer the programs.

Respondents (i.e. affected public): Public Housing Agencies, State and local governments, individuals and households.

Total Estimated Burden Matrix: No change.

Information collection | Number of respondents (PHA) (with responses) | * Average number of reponses per respondent (with responses) | Total annual responses | Minutes per response | Total hours | Regulatory reference (24 CFR) * see attached
Form HUD-50058 New Admission | 4,014 | 87 | 349,218 | 45 | 261,913.50 | 908.101
Form HUD-50058 Recertification | 4,014 | 583 | 2,340,162 | 25 | 975,051.90 | 908.101
Form HUD-50058 MTW New Admission | 39 | 529 | 20,631 | 45 | 15,473.25 | 908.101
Form HUD-50058 Recertification MTW | 39 | 4,018 | 156,702 | 25 | 65,291.46 | 908.101
Form HUD-50058 MTW Expansion New Admission | 100 | 87 | 8,700 | 45 | 6,525.00 | 908.101
Form HUD-50058 Recertification MTW Expansion | 100 | 583 | 58,300 | 25261 | 24,291.28 | 908.101
Totals: 4,153.
Total Responses: 2,933,713.
Total Hours: 1,348,546.39.
* Average Number of Responses per Respondents = Total Annual Responses/Number of Respondents.
Estimated annualized hourly cost to respondents (PHA); Form HUD-50058: To report using Form HUD-50058 Family Report, it will cost the average PHA $1,141.88 annually to enter and submit all data for New Admission and $4,250.97 annually for Recertification.
Estimated annualized hourly cost to respondents (PHA); Form HUD-50058 MTW: To report using Form HUD-50058 MTW Family Report, it will cost the average PHA $6,943.13 annually to enter and submit all data for New Admissions and $29,297.45 annually for Recertification.
Estimated annualized hourly cost to respondents (PHA); Form HUD-50058 MTW Expansion: To report using Form HUD-50058 MTW Expansion Family Report, it will cost the average PHA $1,141.88 annually to enter and submit all data for New Admissions and $4,250.97 annually for Recertification.

B. Changes Proposed

HUD is proposing several changes to the HUD-50058 Family Report. HUD is also proposing necessary corresponding changes to the HUD-50058 MTW and HUD-50058 MTW Expansion Reports for consistency, along with a few minor revisions. This data will be used to understand demographic, family profile, income, and housing information. There are several data elements that have been changed, removed, or added from their original content in recognition of rulemakings, policy changes, and current equity principles. HUD is also removing the Welfare to Work program references throughout the form since the program no longer exists. HUD does not expect the changes being proposed to impact the burden on respondents. HUD welcomes comments on the proposed changes or additional changes that should be considered when renewing this information collection, especially relevant to burden reduction. One significant change is that HUD will be moving many of the codes from the form itself and placing them in the instruction booklet to ease the use of the form and allow for non-significant future updates.

HUD-50058 Forms: The following provides a general overview of the changes that HUD is considering:

Section 1: Agency

HUD proposes to update the program types and add the unit real estate ID number to this section.

Section 2: Action

HUD proposes to update the codes for special programs and type of actions. For the type of action codes, HUD is proposing to remove the “Historical Adjustment” code, and add codes for PBV Transfer to Tenant-Based Voucher and two action types that will allow PHAs to record changes when the family will not receive an interim income reexamination due to Housing Opportunity Through Modernization Act of 2016, Public Law 114-201, (HOTMA) rulemaking—Household Composition Change Only; and Other Change, Non-Income Threshold. In addition, HUD plans to change the FSS participation question to a Supportive Service program participation question to align with the changes in Section 17. HUD is also proposing to add questions to list the primary reason for a family's end of participation, similar to the current HUD-50058 MTW Expansion, but add additional Tenant Initiated code and Nonpayment of Rent as a code. Lastly, HUD plans to add a question on reasons for a family's interim reexamination (already on the HUD-50058 MTW Expansion); the type of HCV voucher issued, if applicable; and a date a participant vacated an HCV unit, if applicable. HUD requests comments on whether the codes proposed and currently used in these sections represent the best code options for PHAs when completing the Form 50058 and whether new or changes to existing codes should be considered.

Section 3: Household

HUD is considering changing the Alien Registration number to provide alternatively for a USCIS Number or USCIS case number field. HUD requests comments on whether such a change would be appropriate for collecting similar information. In addition, HUD is considering updating the field for Sex to Gender and allow for inclusion of X-Non-Binary/Transgender, NR-No Response/Prefer not to answer, and the option to pick more than one response. HUD recognizes that some PHAs have policies that use this field response to determine bedroom sizes and other PHAs have State requirements to allow other such gender desingations. Therefore, HUD requests specific comment on what barriers PHAs might face if HUD makes these changes and what guidance would be helpful for PHAs if HUD does implement this change.

HUD is also considering, in response to Executive Order 14075, Advancing Equality for Lesbian, Gay, Bisexual, Transgender, Queer, and Intersex Individuals, requesting information about a household member's Sexual Orientation. HUD requests comments on whether this field should be added, if added should it be limited to specific household members (e.g., adult members or head of household), and whether the categories are accurate. HUD is considering the following categories: Straight/Heterosexual, Gay, Lesbian, Bisexual, Other, and No Response/Prefer not to answer. HUD also requests specific comments on what guidance would be helpful if HUD does implement this change to ensure accuracy in collecting and maintaining this information.

Lastly, HUD is proposing to change the Race question to include a new code “Other” and considering adding to the Disability question a new code “No Response.”

Section 4: Background at Admission

HUD proposes to include new lines to include a date when the family was selected from the waiting list; if the family was formerly homeless; if the family transitioned out of an institutional setting; and whether there was a special non-waiting list admission.

Section 5: Unit to be Occupied on Effective Date of Action

HUD proposes to add an urbanization code to accommodate Puerto Rican addresses; provide for the type of accessible unit identified by the PHA; and include whether the last inspection passed by the unit was an alternative inspection.

Section 6: Assets

HUD proposes to update this section to delineate actual income from imputed income for each family member consistent with HUD's HOTMA rulemaking. HUD will also amend the formula associate with the asset to reflect the HOTMA changes.

Section 8: Expected Income per Year

HUD proposes to revise this section heading to “Deductions and Allowances.” HUD would also include a new question for families to indicate if a family is eligible for a medical hardship expense, childcare hardship expense or both, consistent with HUD's HOTMA rulemaking. In addition, HUD would add questions required to be supplied by the PHA to help determine if a family is subject to HOTMA's public housing over-income rule: what the applicable over-income limit for families of the application's size is; if the family is over-income; and the date the over-income family began the 24 consecutive month grace period.

Section 10: Public Housing and Turnkey III

HUD proposes to revise Section 10 heading to remove “and Turnkey III.” HUD also proposes to remove the income-based ceiling rent question and replace the “income-based ceiling rent” reference with “flat rent.”

Section 11: Section 8: Project Based Certificates and Vouchers

HUD proposes to revise Section 11 heading to remove reference to “Certificates” and add a question to include the HAP Contract ID Number, as assigned by the PBV HAP Contract Collection module in the Housing Information Portal (HIP).

Section 12: Housing Choice Vouchers: Tenant Based Vouchers

HUD proposes to remove the question about if the family qualifies as “Hard to House.” HUD also proposes to add items requesting information on whether the family received mobility-related services; if a security deposit was paid by the PHA on behalf of the family; and if the family received a higher payment standard as reasonable accommodation. In addition, HUD proposes to add from the HUD-50058 MTW Expansion the questions about additional Payments, not HAP Payments, for tenant-based voucher family and financial incentives for property owners.

Section 17: Family Self-Sufficiency (FSS)/Welfare to Work (WtW) Voucher Addendum

HUD proposes to revise Section 17 heading to read “Supportive Services Programs.” The section removes the Welfare to Work voucher questions, but provides information on effective date, employment, and services for other supportive services programs, such as ROSS and Jobs Plus. There are also minor amendments to list of benefits a participating family receives, and the services needed by/provided to participating families. HUD also plans to remove the questions about who provides the services. HUD proposes to remove the question about whether the family received a selection preference because of a FSS related service program, given such preference is listed elsewhere in the form. HUD also proposes to add options to the question of why a participant exited the FSS program, to conform with the FSS Final Rule.

HUD-50058 MTW and HUD-50058 MTW Expansion Form: HUD is proposing changes primarily to this form to conform with the changes mentioned above and to comply with HOTMA. HUD also proposes to: remove the date of admission to the MTW program because it was unnecessary; add in a question on the total homeownership assistance payment (HAP); and to remove reference to “Local, Non-Traditional Assistance.”

C. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Steven Durham,
Acting Chief, Office of Policy, Program and Legislative Initiatives.

[FR Doc. 2023-02668 Filed 2-7-23; 8:45 am]

BILLING CODE 4210-67-P